DEPARTMENT OF STATE

[Public Notice: 6387]

Bureau of Verification, Compliance and Implementation: Termination of Measures Against a Foreign Person

AGENCY: Department of State.

ACTION: Notice.

SUMMARY: A determination has been made to terminate sanctions imposed pursuant to Section 3 of the Iran, North Korea, and Syria Nonproliferation Act on a Singaporean entity (72 FR 5781).

DATES: Effective Date: October 9, 2008.

FOR FURTHER INFORMATION CONTACT: On general issues: Mr. Stephen J. Tomchik, Bureau of Verification, Compliance, and Implementation, Department of State, Telephone (202) 647-1192. For U.S. Government procurement ban issues: Kimberly Triplett, Office of the Procurement Executive, Department of State, Telephone: (703) 875-4079.

SUPPLEMENTARY INFORMATION: Pursuant to Section 4 of the Iran, North Korea, and Syria Nonproliferation Act (Pub. L. 106-178), the U.S. Government determined on September 19, 2008 that sanctions imposed effective April 17, 2007 (72 FR 5781) on the Singaporean entity Sokkia Singapore are terminated.

Dated: October 2, 2008.
Stephen A. Elliott,
Acting Assistant Secretary for Verification, Compliance, and Implementation, Department of State.

[FR Doc. E8-23898 Filed 10-8-08; 8:45 am]

BILLING CODE 4710-27-P